DEPARTMENT OF AGRICULTURE

Submission for OMB Review; Comment Request

April 26, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Special Nutrition Program Operations Study—Year 1.

OMB Control Number: 0584-NEW.

Summary of Collections: The objective of the Special Nutrition Program Operations Study (SNPOS) is to collect timely data on policies, administrative, and operational issues on the Child Nutrition Programs. The ultimate goal of the study is to analyze these data and provide input for new legislation on Child Nutrition Programs as well as to provide pertinent technical assistance and training to program implementation staff. This study is necessary to implement Section 28(a) (1) of the Richard B. Russell National School Lunch Act. This legislation directs the U.S. Department of Agriculture to carry out annual national performance assessments of the School Breakfast Program and the National School Lunch Program.

Need and Use of the Information: This study involves the development of an on-going modular data collection system for the collection of data policy and operational issues related to the Child Nutrition program operations. The finding from this study survey will be used to identify program operational and policy issues, and topic for technical assistance and training. The information will be collected from a nationally representative sample of School Food Authorities directors and State Agency Directors.

Description of Respondents: State, Local, or Tribal Government; not-for-profit institutions.

Number of Respondents: 1,831.

Frequency of Responses: Reporting; Other (One time).

Total Burden Hours: 2,765.

Ruth Brown,
Departmental Information Collection Clearance Officer.

[FR Doc. 2011-10412 Filed 4-28-11; 8:45 am]

BILLING CODE 3410-30-P